POSTAL SERVICE

Notice of Intent To Prepare a Programmatic Environmental Assessment for the Purchase of Commercial Vehicles

AGENCY: Postal Service.

ACTION: Notice of intent to prepare a Programmatic Environmental Assessment.

SUMMARY: To comply with the requirements of the National Environmental Policy Act (NEPA), the Postal Service intends to prepare a Programmatic Environmental Assessment (PEA) for the purchase of commercial off-the-shelf (COTS) delivery vehicles to accommodate route growth and replace aged, high-maintenance vehicles over the next three years. This PEA will evaluate the environmental impacts of the proposed action versus the alternatives of leasing the vehicles in lieu of purchase, and taking no action.

DATES: Comments should be received no later than April 3, 2017. In May of 2017, the Postal Service will publish a Notice of Availability to announce the availability of the Draft PEA and solicit comments on the Draft PEA during a second 15-day public comment period.

ADDRESSES: Interested parties may direct comments, questions, or requests for additional information to: Davon Collins, Environmental Counsel, U.S. Postal Service, Room 6333, 475 L'Enfant Plaza SW., Washington, DC 20260, telephone (202) 268-4570, email davon.m.collins@usps.gov.

SUPPLEMENTARY INFORMATION: This notice concerns a proposed purchase of commercial off-the-shelf (COTS) delivery vehicles, and the intent of the Postal Service, pursuant to the requirements of the National Environmental Policy Act (NEPA) of 1969, its implementing procedures at 39 CFR 775, and the President's Council on Environmental Quality Regulations (40 CFR parts 1500-1508), to prepare a PEA to evaluate the environmental impacts of the proposed action versus the alternatives of leasing the vehicles in lieu of purchase, or taking no action.

To stabilize its delivery fleet pending the development of a longer-term solution to its vehicle needs, the Postal Service is considering the purchase of approximately 25,000 left-hand drive and right-hand drive COTS delivery vehicles to accommodate route growth over the next three years and to replace approximately 18,000 aged and high-maintenance cost vehicles. The prospective PEA will be prepared in accordance with NEPA, and will consider the physical, biological, cultural, and socioeconomic environments. To assist in this process, the Postal Service is soliciting the public's input and comments.

Stanley F. Mires,
Attorney, Federal Compliance.

[FR Doc. 2017-05304 Filed 3-16-17; 8:45 am]

BILLING CODE 7710-12-P